GENERAL SERVICES ADMINISTRATION

48 CFR Parts 538 and 552

[GSAR Case 2020-G511; Docket No. GSA-GSAR-2023-0019; Sequence No. 1]

RIN 3090-AK21

General Services Administration Acquisition Regulation; Updated Guidance for Non-Federal Entities Access to Federal Supply Schedules

Correction

552.238-113 [Corrected]

In rule document, 2024-03605, which published on Thursday February 22, 2024, on pages 13282 to 13287, make the following corrections:

On page 13287, in the first column, the twelfth line down reading “(b) [Reserved]” should be deleted.

[FR Doc. C1-2024-03605 Filed 4-2-24; 8:45 am]

BILLING CODE 0099-10-P